FEDERAL ELECTION COMMISSION

[Notice 2017-02]

Price Index Adjustments for Contribution and Expenditure Limitations and Lobbyist Bundling Disclosure Threshold

AGENCY: Federal Election Commission.

ACTION: Notice of adjustments to contribution and expenditure limitations and lobbyist bundling disclosure threshold.

SUMMARY: As mandated by provisions of the Federal Election Campaign Act (“the Act”), the Federal Election Commission (“the Commission”) is adjusting certain contribution and expenditure limitations and the lobbyist bundling disclosure threshold set forth in the Act, to index the amounts for inflation. Additional details appear in the supplemental information that follows.

DATES: Effective Date: The effective date for the limitation at 52 U.S.C. 30116(a)(1)(A) is November 9, 2016. The effective date for the limitations at 52 U.S.C. 30104(i)(3)(A), 30116(a)(1)(B), 30116(d) and 30116(h) is January 1, 2017.

FOR FURTHER INFORMATION CONTACT: Ms. Elizabeth S. Kurland, Information Division, 999 E Street NW., Washington, DC 20463; (202) 694-1100 or (800) 424-9530.

SUPPLEMENTARY INFORMATION: Under the Federal Election Campaign Act, 52 U.S.C. 30101-46, coordinated party expenditure limits (52 U.S.C. 30116(d)(3)), certain contribution limits (52 U.S.C. 30116(a)(1)(A) and (B), and (h)), and the disclosure threshold for contributions bundled by lobbyists (52 U.S.C. 30104(i)(3)(A)) are adjusted periodically to reflect changes in the consumer price index. See 52 U.S.C. 30104(i)(3), 30116(c)(1); 11 CFR 109.32 and 110.17(a), (f). The Commission is publishing this notice to announce the adjusted limits and disclosure threshold.

Coordinated Party Expenditure Limits for 2017

Under 52 U.S.C. 30116(c), the Commission must adjust the expenditure limitations established by 52 U.S.C. 30116(d) (the limits on expenditures by national party committees, state party committees, or their subordinate committees in connection with the general election campaign of candidates for Federal office) annually to account for inflation. This expenditure limitation is increased by the percent difference between the price index, as certified to the Commission by the Secretary of Labor, for the 12 months preceding the beginning of the calendar year and the price index for the base period (calendar year 1974). 52 U.S.C. 30116(c).

1. Expenditure Limitation for House of Representatives in States With More Than One Congressional District

Both the national and state party committees have an expenditure limitation for each general election held to fill a seat in the House of Representatives in states with more than one congressional district. See 52 U.S.C. 30116(d)(3)(B). This limitation also applies to the District of Columbia and territories that elect individuals to the office of Delegate or Resident Commissioner.¹ Id. The formula used to calculate the expenditure limitation in such states and territories multiplies the base figure of $10,000 by the difference in the price index (4.86767), rounding to the nearest $100. See 52 U.S.C. 30116(c)(1)(B), (d)(3)(B); 11 CFR 109.32(b), 110.17. Based upon this formula, the expenditure limitation for 2017 general elections for House candidates in these states, districts, and territories is $48,700.

¹ .Currently, these are the Commonwealth of Puerto Rico, and the territories of American Samoa, Guam, the United States Virgin Islands and the Northern Mariana Islands. See http://www.house.gov/representatives.

2. Expenditure Limitation for Senate and for House of Representatives in States With Only One Congressional District

Both the national and state party committees have an expenditure limitation for a general election held to fill a seat in the Senate or in the House of Representatives in states with only one congressional district. See 52 U.S.C. 30116(d)(3)(A). The formula used to calculate this expenditure limitation considers not only the price index but also the voting age population (“VAP”) of the state. Id. The VAP figures used to calculate the expenditure limitations were certified by the U.S. Census Bureau. The VAP of each state is also published annually in the Federal Register by the U.S. Department of Commerce. 11 CFR 110.18. The general election expenditure limitation is the greater of: The base figure ($20,000) multiplied by the difference in the price index, 4.86767 (which totals $97,400); or $0.02 multiplied by the VAP of the state, multiplied by 4.86767. Amounts are rounded to the nearest $100. See 52 U.S.C. 30116(c)(1)(B), (d)(3)(A); 11 CFR 109.32(b), 110.17. The chart below provides the state-by-state breakdown of the 2017 general election expenditure limitation for Senate elections. The expenditure limitation for 2017 House elections in states with only one congressional district ² is $97,400.

² Currently, these states are: Alaska, Delaware, Montana, North Dakota, South Dakota, Vermont and Wyoming. See http://www.house.gov/representatives/.

Senate General Election Coordinated Expenditure Limits—2017 Elections
State | Voting age population (VAP) | VAP × .02 × the price index (4.86767) | Senate expenditure limit (the greater of the amount in column 3 or $97,400)
Alabama | 3,766,477 | $366,700 | $366,700
Alaska | 554,567 | 54,000 | 97,400
Arizona | 5,299,579 | 515,900 | 515,900
Arkansas | 2,283,195 | 222,300 | 222,300
California | 30,157,154 | 2,935,900 | 2,935,900
Colorado | 4,279,173 | 416,600 | 416,600
Connecticut | 2,823,158 | 274,800 | 274,800
Delaware | 747,791 | 72,800 | 97,400
Florida | 16,465,727 | 1,603,000 | 1,603,000
Georgia | 7,798,827 | 759,200 | 759,200
Hawaii | 1,120,541 | 109,100 | 109,100
Idaho | 1,245,967 | 121,300 | 121,300
Illinois | 9,875,430 | 961,400 | 961,400
Indiana | 5,057,601 | 492,400 | 492,400
Iowa | 2,403,962 | 234,000 | 234,000
Kansas | 2,192,338 | 213,400 | 213,400
Kentucky | 3,426,345 | 333,600 | 333,600
Louisiana | 3,567,717 | 347,300 | 347,300
Maine | 1,076,765 | 104,800 | 104,800
Maryland | 4,667,719 | 454,400 | 454,400
Massachusetts | 5,433,677 | 529,000 | 529,000
Michigan | 7,737,243 | 753,200 | 753,200
Minnesota | 4,231,619 | 412,000 | 412,000
Mississippi | 2,267,438 | 220,700 | 220,700
Missouri | 4,706,137 | 458,200 | 458,200
Montana | 814,909 | 79,300 | 97,400
Nebraska | 1,433,791 | 139,600 | 139,600
Nevada | 2,262,631 | 220,300 | 220,300
New Hampshire | 1,074,207 | 104,600 | 104,600
New Jersey | 6,959,717 | 677,600 | 677,600
New Mexico | 1,590,352 | 154,800 | 154,800
New York | 15,564,730 | 1,515,300 | 1,515,300
North Carolina | 7,848,068 | 764,000 | 764,000
North Dakota | 581,641 | 56,600 | 97,400
Ohio | 9,002,201 | 876,400 | 876,400
Oklahoma | 2,961,933 | 288,400 | 288,400
Oregon | 3,224,738 | 313,900 | 313,900
Pennsylvania | 10,109,422 | 984,200 | 984,200
Rhode Island | 848,045 | 82,600 | 97,400
South Carolina | 3,863,498 | 376,100 | 376,100
South Dakota | 652,167 | 63,500 | 97,400
Tennessee | 5,149,399 | 501,300 | 501,300
Texas | 20,568,009 | 2,002,400 | 2,002,400
Utah | 2,129,444 | 207,300 | 207,300
Vermont | 506,066 | 49,300 | 97,400
Virginia | 6,541,685 | 636,900 | 636,900
Washington | 5,658,502 | 550,900 | 550,900
West Virginia | 1,456,034 | 141,700 | 141,700
Wisconsin | 4,491,015 | 437,200 | 437,200
Wyoming | 446,600 | 43,500 | 97,400

Limitations on Contributions by Individuals, Non-Multicandidate Committees and Certain Political Party Committees Giving to U.S. Senate Candidates for the 2017-2018 Election Cycle

The Act requires inflation indexing to: (1) The limitations on contributions made by persons under 52 U.S.C. 30116(a)(1)(A) (contributions to candidates) and 30116(a)(1)(B) (contributions to national party committees); and (2) the limitation on contributions made to U.S. Senate candidates by certain political party committees at 52 U.S.C. 30116(h). See 2 U.S.C. 30116(c). These contribution limitations are increased by multiplying the respective statutory contribution amount by 1.35550, the percent difference between the price index, as certified to the Commission by the Secretary of Labor, for the 12 months preceding the beginning of the calendar year and the price index for the base period (calendar year 2001). The resulting amount is rounded to the nearest multiple of $100. See 52 U.S.C. 30116(c); 11 CFR 110.17(b). Contribution limitations shall be adjusted accordingly:

Statutory provision | Statutory amount | 2017-2018 limit
52 U.S.C. 30116(a)(1)(A) | $2,000 | $2,700
52 U.S.C. 30116(a)(1)(B) | 25,000 | 33,900
52 U.S.C. 30116(h) | 35,000 | 47,400

The limitation at 52 U.S.C. 30116(a)(1)(A) is to be in effect for the two-year period beginning on the first day following the date of the general election in the preceding year and ending on the date of the next regularly scheduled election. Thus the $2,700 figure above is in effect from November 9, 2016, to November 6, 2018. The limitations under 52 U.S.C. 30116(a)(1)(B) and 30116(h) shall be in effect beginning January 1st of the odd-numbered year and ending on December 31st of the next even-numbered year. Thus the new contribution limitations under 52 U.S.C. 30116(a)(1)(B) and 30116(h) are in effect from January 1, 2017, to December 31, 2018. See 11 CFR 110.17(b)(1).

Lobbyist Bundling Disclosure Threshold for 2017

The Act requires certain political committees to disclose contributions bundled by lobbyists/registrants and lobbyist/registrant political action committees once the contributions exceed a specified threshold amount. 52 U.S.C. 30104(i)(1), (3)(A). The Commission must adjust this threshold amount annually to account for inflation. The disclosure threshold is increased by multiplying the $15,000 statutory disclosure threshold by 1.19052, the difference between the price index, as certified to the Commission by the Secretary of Labor, for the 12 months preceding the beginning of the calendar year and the price index for the base period (calendar year 2006). The resulting amount is rounded to the nearest multiple of $100. See 52 U.S.C. 30104(i)(3), 30116(c)(1)(B); 11 CFR 104.22(g). Based upon this formula ($15,000 × 1.19052), the lobbyist bundling disclosure threshold for calendar year 2017 is $17,900.

Dated: February 2, 2017.
On behalf of the Commission.
Steven T. Walther,
Chairman, Federal Election Commission.

[FR Doc. 2017-03090 Filed 2-15-17; 8:45 am]

BILLING CODE 6715-01-P